DEPARTMENT OF ENERGY

Federal Energy Regulatory Commission

[Project No. 6461-026]

City of Port Angeles, Washington; Notice of Application For Surrender of License, Soliciting Comments, Motions To Intervene, and Protests

Take notice that the following hydroelectric application has been filed with the Commission and is available for public inspection:

a. Type of Proceeding: Application for surrender of license.

b. Project No.: 6461-026.

c. Date Filed: February 23, 2018.

d. Licensee: City of Port Angeles, Washington.

e. Name of Project: Morse Creek Hydroelectric Project.

f. Location: The project is located on Morse Creek in Clallam County, Washington.

g. Filed Pursuant to: Federal Power Act, 16 U.S.C. 791a-825r.

h. Licensee Contact: Mr. Craig Fulton, Public Works and Utility Director, City of Port Angeles, Washington, 321 East Fifth Street, Port Angeles, WA 98362-0217, Telephone: (360) 417-4800.

i. FERC Contact: Mr. Kurt Powers, (202) 502-8949, Kurt.Powers@ferc.gov.

j. Deadline for filing comments, interventions, and protests is 30 days from the issuance date of this notice by the Commission. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-6461-026.

k. Description of Project Facilities: The project consists of: (a) A 10-foot-high, 25-foot-long, concrete, diversion weir and intake structure; (b) a 750-foot long, 30 by 36-inch-diameter, concrete tunnel; (c) a 11,400-foot-long, 24-inch-diameter, buried steel pipeline; (d) a 1,300-foot-long, 24-inch-diameter, buried steel penstock; (e) a 32-foot-long, 28-foot-wide, and 14-foot-high, masonry block powerhouse containing one horizontal Pelton turbine with an hydraulic capacity of 19 cubic feet per second (cfs) and a net hydraulic head of 362 feet, directly connected to single generator with a nameplate rating of 560 kilowatts; (f) a 2,400-foot-long, 12.5 kilovolt (kV), underground transmission line; and (g) appurtenant facilities.

l. Description of Request: The licensee proposes to surrender the project as it no longer intends to operate the project. The dam and intake facilities, including the concrete tunnel, were part of the original water structure when Morse Creek was the primary water source for the City of Port Angeles. These structures continue to be used to draw water for neighboring Clallam County Public Utility District (PUD). Since the dam structure pre-dates the hydroelectric project and would continue to serve as a water supply for the PUD and for emergency use by the City of Port Angeles, the dam structure will remain as is. The licensee will remove the generating equipment from the powerhouse and the penstock will be plugged with cement to stabilize the structure. The tailrace would be filled in to pre-project condition to prevent fish from becoming stranded during low-flow periods.

m. This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE, Room 2A, Washington, DC 20426, or by calling (202) 502-8371.

n. Individuals desiring to be included on the Commission's mailing list should so indicate by writing to the Secretary of the Commission.

o. Comments, Protests, or Motions To Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the surrender application that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

q. Agency Comments—Federal, state, and local agencies are invited to file comments on the described proceeding. If any agency does not file comments within the time specified for filing comments, it will be presumed to have no comments.

Dated: March 14, 2018..
Kimberly D. Bose,
Secretary.

[FR Doc. 2018-05622 Filed 3-19-18; 8:45 am]

BILLING CODE 6717-01-P